NATIONAL SCIENCE FOUNDATION

Business and Operations Advisory Committee; Notice of Meeting

In accordance with Federal Advisory Committee Act (Pub. L. 92-463, as amended), the National Science Foundation announces the following meeting:

Name: Business and Operations Advisory Committee (9556).

Date/Time: November 29, 2007; 1 p.m. to 5:45 p.m. (EST); November 30, 2007; 8 a.m. to 12 p.m. (EST).

Place: National Science Foundation, 4201 Wilson Boulevard, Room 1235.

Type of Meeting: Open.

Contact Person: Patty Balanga, National Science Foundation, 4201 Wilson Boulevard, Arlington, VA 22230 (703) 292-8100.

Purpose of Meeting: To provide advice concerning issues related to the oversight, integrity, development and enhancement of NSF's business operations.

Agenda: November 29, 2007: p.m.: Welcome/Introductions; Presentation and Discussion—Office of Legislative and Public Affairs; Presentation and Discussion—Impact of Proposal Award and Management Mechanisms; Updates—Office of Information and Resource Management & Office of Budget, Finance, and Award Management activities; Presentation and Discussion—Broadening Participation Working Group.

November 30, 2007: a.m.: Presentation—Total Business System Review Subcommittee Update; Presentation and Discussion—Stewardship Goals and Measures; Committee Discussion; Meeting with NSF Director; Committee Discussion/Wrap-Up.

Dated: November 13, 2007.
Susanne Bolton,
Committee Management Officer.

[FR Doc. E7-22403 Filed 11-15-07; 8:45 am]

BILLING CODE 7555-01-P